DEPARTMENT OF ENERGY

Federal Energy Regulatory Commission

[Docket No. EL01-93-000]

Mirant Americas Energy Marketing, L.P., Mirant New England, LLC, Mirant Kendall, LLC, Mirant Canal, LLC, Complainant, v. ISO New England Inc., Respondent; Notice of Complaint

June 21, 2001.

Take notice that on June 20, 2001, Mirant Americas Energy Marketing, L.P., Mirant New England, LLC, Mirant Kendall, LLC and Mirant Canal, LLC (the Mirant Parties) tendered for filing a complaint pursuant to Sections 206 and 306 of the Federal Power Act against the ISO New England Inc. (ISO-NE) in connection with ISO-NE's proposed revisions to procedures for mitigation of generation resources run or used out of economic merit order during transmission constraints.

The Mirant Parties have served copies of the complaint upon the ISO-NE and the New England Power Pool.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before June 29, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before June 29, 2001. Comments, protests and interventions may be filed electronically via the internet in lieu of paper. See, 18 CFR 385.2001(a)(1)(iii) and the instructions on the Commission's web site at http://www.ferc.fed.us/efi/doorbell.htm.

David P. Boergers,
Secretary.

[FR Doc. 01-16062 Filed 6-26-01; 8:45 am]

BILLING CODE 6717-01-M